INTERNATIONAL TRADE COMMISSION

[Investigation No. 337-TA-1028]

Certain Mobile Device Holders and Components Thereof; Commission's Determination To Affirm a Domestic Industry Finding Under Modified Reasoning; Issuance of a General Exclusion Order; Issuance of Sixteen Cease and Desist Orders; Termination of the Investigation

AGENCY: U.S. International Trade Commission.

ACTION: Notice.

SUMMARY: Notice is hereby given that the U.S. International Trade Commission has determined to affirm under modified reasoning the ALJ's finding on the economic prong of the domestic industry. The Commission has also determined to issue a general exclusion order directed against infringing mobile device holders and components thereof, and has issued sixteen cease and desist orders against various defaulting respondents. The investigation is hereby terminated.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on November 14, 2016, based on a complaint and supplements, filed on behalf of Nite Ize, Inc. of Boulder, Colorado (“Nite Ize”). 81 FR 79519-20 (Nov. 14, 2016). The complaint, as supplemented, alleges violations of section 337 based upon the importation into the United States, the sale for importation, and the sale within the United States after importation of certain mobile device holders and components thereof by reason of infringement of certain claims of U.S. Patent No. 8,602,376 (“the '376 patent”), U.S. Patent No. 8,870,146 (“the '146 patent”), U.S. Patent No. D734,746 (“the '746 patent”), and U.S. Patent No. D719,959 (“the '959 patent”). The complaint further alleges that an industry in the United States exists as required by subsection (a)(2) of section 337. The Commission's notice of investigation named the following respondents: REXS, LLC (“REXS LLC”) of Lewes, Delaware; Spinido, Inc. of Brighton, Colorado; Guangzhou Kuaguoyi E-commerce Co., Ltd. d/b/a Kagu Culture (“Kagu Culture”) of Baiyum, China; Sunpauto Co., Ltd. (“Sunpauto”) of Kowloon, Hong Kong; Shenzhen Topworld Technology Co. d/b/a IdeaPro (“IdeaPro”) of Hong Kong, Hong Kong; Ninghuaxian Wangfulong Chaojishichang Youxian Gongsi, Ltd., d/b/a EasybuyUS of Shanghai, China; Chang Lee d/b/a Frentaly of Duluth, Georgia; Trendbox USA LLC d/b/a Trendbox (“Trendbox”) of Scottsdale, Arizona; Tenswall d/b/a Shenzhen Tenswall International Trading Co. (“Tenswall”) of La Puente, California; Luo Jieqiong d/b/a Wekin (“Wekin”) of Chang Sha, China; Pecham d/b/a Baichen Technology Ltd. (“Pecham”) of Wan Chai, Hong Kong; Cyrift d/b/a Guangzhou Sunway E-Commerce LLC of Guangzhou, China; Rymemo d/b/a Global Box, LLC of Dunbar, Pennsylvania; Yuan I d/b/a Bestrix of Hubei, China; Zhongshan Feiyu Hardware Technology Co., Ltd d/b/a YouFo (“YouFo”) of ZhongShan City, China; and Shenzhen Youtai Trade Company Limited, d/b/a NoChoice; Luo, Qiben, d/b/a Lita International Shop of Nanshan; Shenzhen New Dream Technology Co., Ltd., d/b/a Newdreams (“Newdreams”); Shenznen Gold South Technology Co., Ltd. d/b/a Baidatong; Wang Zhi Gang d/b/a IceFox (“Icefox”); Dang Yuya d/b/a Sminiker; Lin Zhen Mei d/b/a Anson (“Anson”); Wu Xuying d/b/a Novoland (“Novoland”); Shenzhen New Dream Sailing Electronic Technology Co., Ltd. d/b/a MegaDream; Tontek d/b/a Shenzhen Hetongtai Electronics Co., Ltd. (“Tontek”); Scotabc d/b/a ShenChuang Optoelectronics Technology Co., Ltd.(“Scotabc”); Zhiping Zhou d/b/a Runshion (“Runshion”); Huijukon d/b/a Shenzhen Hui Ju Kang Technology Co. Ltd.; Barsone d/b/a Shenzhen Senweite Electronic Commerce Ltd.; Oumeiou d/b/a Shenzhen Oumeiou Technology Co., Ltd. (“Oumeiou”); Grando d/b/a Shenzhen Dashentai Network Technology Co., Ltd.; Shenzhen Yingxue Technology Co., Ltd. (“Shenzhen Yingxue”); Shenzhen Longwang Technology Co., Ltd., d/b/a LWANG (“LWANG”); Hu Peng d/b/a AtomBud; and Wang Guoxiang d/b/a Minse (“Minse”) all of Shenzhen, China. The Office of Unfair Import Investigations (“OUII”) was named as a party to the investigation.

Rymemo d/b/a Global Box, LLC and Chang Lee d/b/a Frentaly were terminated on the basis of a consent order. Commission Notice (March 21, 2017); Commission Notice (May 15, 2017). Barsone d/b/a Shenzhen Senweite Electronic Commerce Ltd., Shenzhen Youtai Trade Company Limited, d/b/a NoChoice, Ninghuaxian Wangfulong Chaojishichang Youxian Gongsi, Ltd., d/b/a EasybuyUS, Shenzhen Gold South Technology Co., Ltd. d/b/a Baidatong, Cyrift d/b/a Guangzhou Sunway E-Commerce LLC, Hu Peng d/b/a AtomBud, Grando d/b/a Shenzhen Dashentai Network Technology Co., Ltd., Huijukon d/b/a Shenzhen Hui Ju Kang Technology Co. Ltd., Luo, Qiben, d/b/a Lita International Shop, Shenzhen New Dream Sailing Electronic Technology Co., Ltd. d/b/a MegaDream, Spinido Inc., Dang Yuya d/b/a Sminiker, and Yuan I d/b/a Bestrix were terminated because service could not be effected. Commission Notice (June 13, 2017). The remaining respondents were previously found in default (collectively, “the Defaulting Respondents”). Commission Notice (May 26, 2017). In addition, the '746 and '959 patents were previously terminated from the investigation. Commission Notice (July 28, 2017).

On May 18, 2017, Nite Ize filed a Motion for Summary Determination of Violation by the Defaulting Respondents and for a Recommended Determination on Remedy and Bonding, Including Issuance of a General Exclusion Order, Limited Exclusion Orders (in the alternative), and Cease and Desist Orders. On June 16, 2017, the ALJ issued an initial determination (“ID”) (Order No. 14) granting in-part Nite Ize's motion for summary determination. The Commission determined not to review that ID. Commission Notice (July 14, 2017).

On September 12, 2017, the ALJ issued his final initial determination (“FID”) finding a violation of section 337 of the Tariff Act of 1930, 19 U.S.C. 1337. On the same day, the ALJ issued his Recommended Determination on Remedy and Bonding. No petitions for review of the FID were filed.

On November 13, 2017, the Commission determined to review the FID's findings on the economic prong of domestic industry and requested briefing on remedy, bonding, and the public interest. 82 FR 54413-14 (Nov. 17, 2017). On November 30, 2017, Nite Ize and OUII filed their responses to the Commission's notice and on December 7, 2017, OUII filed a reply to Nite Ize's response.

Having examined the record of this investigation, the Commission has determined to affirm, under modified reasoning, the ALJ's finding with respect to the economic prong of the domestic industry.

The Commission has determined that the appropriate form of relief in this investigation is (a) a general exclusion order directed against products that infringe one or more of claims 1, 11, and 12 of the '376 patent and claims 1, 11, and 12 of the '146 patent; and (b) cease and desist orders prohibiting Trendbox, Tenswall, REXS LLC, Minse, IdeaPro, LWANG, Novoland, Oumeiou, Pecham, Runshion, Scotabc, Tontek, Wekin, Anson, Newdreams, and IceFox from importing, selling, offering for sale, marketing, advertising, distributing, offering for sale, transferring (except for exportation), or soliciting U.S. agents or distributors of imported mobile device holders that infringe one or more of claims 1, 11, and 12 of the '376 patent and claims 1, 11, and 12 of the '146 patent. The Commission has further determined that the public interest factors enumerated in section 337(d)(1) (19 U.S.C. 1337(d)(1)) and in section 337(g)(1) (19 U.S.C. 1337(g)(l)) do not preclude the issuance of the general exclusion order and cease and desist orders, respectively. Finally, the Commission has determined that the bond for importation during the period of Presidential review shall be in the amount of 100 percent of the entered value of the imported subject articles of the respondents. The investigation is terminated.

The Commission's orders and opinion were delivered to the President and the United States Trade Representative on the day of their issuance.

The authority for the Commission's determination is contained in section 337 of the Tariff Act of 1930, as amended, 19 U.S.C. 1337, and in Part 210 of the Commission's Rules of Practice and Procedure, 19 CFR part 210.

By order of the Commission.
Issued: February 22, 2018.
Lisa R. Barton,
Secretary to the Commission.

[FR Doc. 2018-04026 Filed 2-27-18; 8:45 am]

BILLING CODE 7020-02-P